FEDERAL COMMUNICATIONS COMMISSION

[FR ID 160740]

Deletion of Item From August 3, 2023 Open Meeting

August 1, 2023.

The following item was adopted by the Commission on July 31, 2023 and deleted from the list of items scheduled for consideration at the Thursday, August 3, 2023, Open Meeting. The item was previously listed in the Commission's Sunshine Notice on Thursday, July 27, 2023.

2 | MEDIA | Title: Updating Digital FM Radio Service (MB Docket No. 22-405).
|  | Summary: The Commission will consider an Order and Notice of Proposed Rulemaking seeking comment on proposed changes to the methodology used to determine maximum power levels for digital FM broadcast stations and to the process for authorizing digital transmissions at different power levels on the upper and lower digital sidebands.

Federal Communications Commission.
Marlene Dortch,
Secretary.

[FR Doc. 2023-17009 Filed 8-8-23; 8:45 am]

BILLING CODE 6712-01-P